SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB), Office of Management and Budget, Attn: Desk Officer for SSA, Fax: 202-395-6974, E-mail address: OIRA_Submission@omb.eop.gov.

(SSA), Social Security Administration, DCFAM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Work History Report—20 CFR 404.1512 and 416.912—0960-0578. The information collected by form SSA-3369 is needed to determine disability by the State Disability Determination Services (DDS). The information will be used to document an individual's past work history. The respondents are applicants for Supplemental Security Income (SSI) disability payments and Social Security disability benefits.

Type of Request: Extension of an OMB-approved information collection.

Number of Respondents: 1,000,000.

Frequency of Response: 1.

Average Burden Per Response: 30 minutes.

Estimated Annual Burden: 500,000 hours.

2. Beneficiary Interview and Auditor's Observations Form—0960-0630. The information collected through the Beneficiary Interview and Auditor's Observation Form, SSA-322, will be used by SSA's Office of the Inspector General to interview beneficiaries and/or their payees to determine whether representative payees are complying with their duties and responsibilities under SSA's regulations at 20 CFR 404.2035 and 416.635. Respondents to this collection will be randomly selected SSI recipients and Social Security beneficiaries who have representative payees.

Type of Request: Extension of an OMB-approved information collection.

Number of Respondents: 2,550.

Frequency of Response: 1.

Average Burden Per Response: 15 minutes.

Estimated Annual Burden: 638 hours.

3. Report to U.S. SSA by Person Receiving Benefits for a Child or Adult Unable to Handle Funds & Report to U.S. SSA—0960-0049. SSA needs the information on Form SSA-7161-OCR-SM to monitor the performance of representative payees outside the U.S. and the information on Form SSA-7162-OCR-SM to determine continuing entitlement to Social Security benefits and correct benefit amounts for beneficiaries outside the U.S. The respondents are individuals outside the U.S. who are receiving benefits either for someone else, or on their own behalf, under title II of the Social Security Act.

Type of Request: Revision of an OMB-approved information collection.

Form number | Number of respondents | Frequency of response | Average burden per response (minutes) | Estimated annual burden (hours)
SSA-7161-OCR-SM | 30,000 | 1 | 15 | 7,500
SSA-7162-OCR-SM | 236,500 | 1 | 5 | 19,708
Totals | 257,000 |  |  | 27,208

4. Real Property Current Market Value Estimate—0960-0471. The SSA-L2794 is used to obtain current market value estimates of real property owned by applicants for, or beneficiaries of, Supplemental Security Income payments (or a person whose resources are deemed to such an individual). The value of an individual's resources, including non-home real property is one of the eligibility requirements for SSI payments. The respondents are individuals with knowledge of local real property values.

Type of Request: Extension of an OMB-approved information collection.

Number of Respondents: 5,438.

Frequency of Response: 1.

Average Burden Per Response: 20 minutes.

Estimated Annual Burden: 1,813 hours.

5. Requests for Self-Employment Information, Employee Information, Employer Information—20 CFR 422.120—0960-0508. SSA uses forms SSA-L2765, SSA-L3365 and SSA-L4002 to request correct information when an employer, employee or self-employed person reports an individual's earnings without a Social Security Number (SSN) or with an incorrect name or SSN. The respondents are employers, employees or self-employed individuals who are requested to furnish additional identifying information.

Type of Request: Revision of an OMB-approved information collection.

Form number | Number of respondents | Frequency of response | Average burden per response (minutes) | Estimated annual burden (hours)
SSA-L2765 | 15,400 | 1 | 10 | 2,567
SSA-L3365 | 173,100 | 1 | 10 | 28,850
SSA-L4002 | 656,000 | 1 | 10 | 109,333
Total | 844,500 |  |  | 140,750

6. Cost Reimbursable Research Request—0960-NEW.

Background

The Social Security Administration (SSA) is responsible for administrating two cash benefit programs, notably the Old-Age, Survivors, and Disability Insurance (OASDI) and SSI programs. To carry out this task, SSA maintains a number of files with detailed information on individuals and their characteristics, such as demographics, employment, earnings, assets, disability diagnosis, location, and other information. While designed for SSA to carry out its administrative tasks, the data files offer great informational depth to researchers interested in SSA's programs and other research areas. As a result, SSA provides qualified researchers needing agency administrative data for a variety of projects.

SSA's data files are governed by strict confidentiality restrictions and are not publicly accessible. Therefore, SSA has charged the Office of Research, Evaluation, and Statistics (ORES) as the primary interface for researchers, either within SSA or outside of it, who seek access to SSA's program files. To safeguard the information and the public trust, ORES has established comprehensive unified application process procedures for obtaining program data for research use.

The Cost Reimbursable Research Request

To request SSA program data for research, the researcher must submit a completed research application for SSA's evaluation. In the application, the requesting researcher must provide required basic project information and describe the way in which the proposed project will further SSA's mission to promote the economic security of the nation's people through its administration of the OASDI programs, and/or the SSI program. Depending on the type of research data needed, the requesting researchers may be required to provide SSA with up to 14 ¹ prescribed project information elements to properly assess their data request.

¹ The complete application process is described in SSA's Program Data User Manual.

Once the application is reviewed and approved by ORES a Reimbursable Conditions of Use Agreement is signed with the requestor which outlines the conditions and safeguards agreed to for the research project data exchange. The requestor may use the data for research and statistical purposes only. This is a reimbursable service and SSA recovers all expenses incurred in providing this information. The respondents to this information collection are the qualified researchers that request SSA administrative data for a variety of projects. These applicants include but are not limited to Federal and State government agencies and/or their contractors, private entities, and colleges/universities.

Type of Request: Collection in use without OMB Control Number.

Number of Respondents: 15.

Frequency of Response: 1.

Average Burden per Response: 240 minutes.

Estimated Annual Burden: 60 hours.

The total average annual cost for all respondents to use this service is approximately $112,500 or an average of $7,500 to complete a single request. This cost projection is an estimate of SSA's administrative and systems costs to analyze and provide the requested research data. Since this is a reimbursable, service all associated cost are borne by the requesters.

7. Notice Regarding Substitution of Party On Death of Claimant-Reconsideration of Disability Cessation—20 CFR 404.917-404.921 and 416.1407-416.1421—0960-0351. Form SSA-770 is used when a claimant dies before a determination is made on that person's request for reconsideration on his/her disability cessation. SSA seeks a qualified substitute party to pursue the appeal. If the qualified substitute party is located, the SSA-770 is used to collect information regarding whether to pursue or withdraw the reconsideration request. The information collected on the SSA-770 forms the basis of the decision to continue or discontinue the appeals process. Respondents are substitute applicants who are pursuing a reconsideration request for a deceased claimant.

Type of Request: Extension of an OMB-approved information collection.

Number of Respondents: 1,200.

Frequency of Response: 1.

Average Burden Per Response: 5 minutes.

Estimated Annual Burden: 100 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Response to Notice of Revised Determination—20 CFR 404.913-.914 and 992(b), 416.1413-.1414 and 1492—0960-0347. Form SSA-765 is used by claimants to request a disability hearing and/or to submit additional evidence before a revised reconsideration determination is issued. The respondents are claimants who file for a disability hearing in response to a notice of revised determination for disability under the OASDI and SSI programs.

Type of Request: Extension of an OMB-approved information collection.

Number of Respondents: 1,925.

Frequency of Response: 1.

Average Burden Per Response: 30 minutes.

Estimated Annual Burden: 963 hours.

2. Questionnaire about Employment or Self-Employment Outside the United States—20 CFR 404.401(b)(1), 404.415, 404.417—0960-0050. The information collected on the SSA-7163 is needed to determine whether work performed by beneficiaries outside the United States is cause for deductions from their monthly Social Security Title II benefits; to determine which of two work tests (foreign test or regular test) is applicable; and to determine the months, if any, for which deductions should be imposed. The respondents are Title II beneficiaries living and working outside the United States.

Type of Request: Extension of an OMB-approved information collection.

Number of Respondents: 20,000.

Frequency of Response: 1.

Average Burden Per Response: 12 minutes.

Estimated Annual Burden: 4,000 hours.

3. Medical Permit Parking Application—41 CFR 101-20.104-2—0960-0624. SSA issues medical parking assignments at SSA-owned and -leased facilities to individuals who have a medical condition which meets the criteria for medical parking. In order to issue a medical parking permit, SSA must obtain medical evidence from the applicant's physician. Form SSA-3192-F4 is used to collect this information. SSA then uses the information to determine whether the individual qualifies for a medical parking permit and whether or not to issue the permit. The respondents are physicians of applicants for medical parking permits.

Type of Request: Extension of an OMB-approved information collection.

Number of Respondents: 800.

Frequency of Response: 1.

Average Burden Per Response: 60 minutes.

Estimated Annual Burden: 800 hours.

4. Reporting Changes that Affect Your Social Security Payment—20 CFR 404.301-305, .310-311, .330-.333, .335-.341, .350-.352, .370-.371, 401-.402, .408(a), .421-.425, .428-.430, .434-.437, .439-.441, 446-.447, .450-.455, .468—0960-0073. SSA uses the information collected on Form SSA-1425 to determine continuing entitlement to Title II Social Security benefits and to determine the proper benefit amount. The respondents are Social Security beneficiaries receiving SSA retirement, disability or survivor's auxiliary benefits who need to report an event that could affect payments.

Type of Request: Revision of an OMB-approved information collection.

Number of Respondents: 70,000.

Frequency of Response: 1.

Average Burden Per Response: 5 minutes.

Estimated Annual Burden: 5,833 hours.

5. Disability Hearing Officer's Decision—20 CFR 404.917 and 416.1417—0960-0441. The Social Security Act requires that SSA provide an evidentiary hearing at the reconsideration level of appeal for claimants who have received an initial or revised determination that a disability did not exist or has ceased. Based on the hearing, the disability hearing officer (DHO) completes form SSA-1207 and all applicable supplementary forms (which vary depending on the type of claim). The DHO uses the information in documenting and preparing the disability decision. The form will aid the DHO in addressing the crucial elements of the case in a sequential and logical fashion. The respondents are DHOs in the State DDSs.

Type of Request: Extension of an OMB-approved information collection.

Number of Respondents: 65,000.

Frequency of Response: 1.

Average Burden Per Response: 45 minutes.

Estimated Annual Burden: 48,750 hours.

6. Statement for Determining Continuing Eligibility, Supplemental Security Income Payment(s)—20 CFR Subpart B, 416.204—0960-0416. SSA uses the information collected on form SSA-8203-BK for high-error-profile (HEP) redeterminations of disability to determine whether SSI recipients have met and continue to meet all statutory and regulatory requirements for SSI eligibility and whether they have been, and are still receiving, the correct payment amount. The information is normally completed in field offices by personal contact (face-to-face or telephone interview) using the automated Modernized SSI Claim System (MSSICS). The respondents are recipients of Title XVI benefits.

Type of Request: Revision of an OMB-approved information collection.

Collection method | Number of respondents | Frequency of response | Average burden per response (minutes) | Estimated annual burden (hours)
MISSICS | 109,012 | 1 | 20 | 36,337
MISSICS/Signature Proxy | 36,338 | 1 | 19 | 11,507
Paper | 25,650 | 1 | 20 | 8,550
Totals: | 171,000 |  |  | 56,394

7. Information Collections Conducted by State DDSs on Behalf of SSA—20 CFR 404.1503a, 404.1512, 404.1513404.1512, 404.1513, 404.1514 404.1517, 404.1519; 20 CFR subpart Q, 404.1613, 404.1614, 404.1624; 20 CFR subpart I, 416.903a, 416.912, 416.913, 416.914, 416.917, 416.919 and 20 CFR subpart J, 416.1013, 416.1024, 416.1014—0960-0555. The State DDSs collect certain information that SSA needs to correctly administer its disability program. This information is divided into the Consultative Examination (CE) and Medical Evidence of Record (MER) categories. There are three types of CE evidence: (a) Medical evidence from CE providers, in which DDSs use CE medical evidence to make disability determinations when the claimant's own medical sources cannot or will not provide the required information, (b) CE claimant completion of a response form where claimants indicate if they intend to keep their CE appointment, and (c) CE claimant completion of a form indicating whether they want the CE report to be sent to their doctor. In the MER category, the DDSs use MER information to determine a person's physical and/or mental status prior to making a disability determination. Please note that for the first time, some of the information included in this collection can be submitted electronically through the new Electronic Records Express (ERE) systems. The respondents are medical providers, other sources of MER, and disability claimants.

Type of Collection: Revision to an existing OMB-approved collection.

CE

a. Medical Evidence From CE Providers

| Number of respondents | Frequency of response | Average burden per response (minutes) | Estimated Annual Burden (hours)
Paper Submissions | 1,215,000 | 1 | 30 | 607,500
ERE Submisions | 285,000 | 1 | 15 | 71,250
Totals | 1,500,000 |  |  | 678,750

b. Claimants re Appointment Letter

Number of Respondents: 750,000.

Frequency of Response: 1.

Average Burden Per Response: 5 minutes.

Estimated Annual Burden: 62,500 hours.

c. Claimants re Report to Medical Provider

Number of Respondents: 1,500,000.

Frequency of Response: 1.

Average Burden Per Response: 5 minutes.

Estimated Annual Burden: 125,000 hours.

MER:

| Number of respondents | Frequency of response | Average burden per response (minutes) | Estimated annual burden (hours)
Paper submissions | 2,480,800 | 1 | 15 | 620,200
C/D (Connect Direct, commercially available software used for electronically transferring medical records) | 218,400 | 1 | 15 | 54,600
ERE | 100,800 |  | 7 | 11,760
Totals | 2,800,000 |  |  | 686,560

Dated: March 8, 2007.
Elizabeth A. Davidson,
Reports Clearance Officer, Social Security Administration.

[FR Doc. E7-4654 Filed 3-14-07; 8:45 am]

BILLING CODE 4191-02-P